COMMODITY FUTURES TRADING COMMISSION

Sunshine Act Meetings

Time and Date: 11 a.m., Friday, April 11, 2003.

Place: 1155 21st St., NW., Washington, DC., 9th floor conference.

Status: Closed.

Matters to be Considered: Surveillance matters.

For More Information Contact: Jean A. Webb, 202-418-5100.

Jean A. Webb,
Secretary of the Commission.

[FR Doc. 03-6450 Filed 3-13-03; 3:07 pm]

BILLING CODE 6351-01-P-M